DEPARTMENT OF STATE

[Public Notice 5121]

30-Day Notice of Proposed Information Collection: DS-4085, Application for Additional Visa Pages, OBM Control Number 1405-0159

ACTION: Notice of request for public comment and submission to OMB of proposed collection of information.

SUMMARY: The Department of State has submitted the following information collection request to the Office of Management and Budget (OMB) for approval in accordance with the Paperwork Reduction Act of 1995.

• Title of Information Collection: Application for Additional Visa Pages.

• OMB Control Number: 1405-0159.

• Type of Request: New collection.

• Originating Office: CA/PPT/FO/FC.

• Form Number: DS-4085.

• Respondents: Individuals or households.

• Estimated Number of Respondents: 30,000 per year.

• Estimated Number of Responses: 30,000 per year.

• Average Hours per Response: 20 minutes.

• Total Estimated Burden: 10,000 hours per year.

• Frequency: On occasion.

• Obligation to Respond: Required to obtain or retain a benefit.

DATES: Submit comments to the Office of Management and Budget (OMB) for up to 30 days from July 5, 2005.

ADDRESSES: Direct comments and questions to Katherine Astrich, the Department of State Desk Officer in the Office of Information and Regulatory Affairs at the Office of Management and Budget (OMB), who may be reached at (202) 395-4718. You may submit comments by any of the following methods:

• E-mail: Katherine_T._Astrich@omb.eop.gov. You must include the DS form number, information collection title, and OMB control number in the subject line of your message.

• Mail (paper, disk, or CD-ROM submissions): Office of Foreign Missions, 725 17th Street, NW., Washington, DC 20503.

• Fax: (202) 395-6974.

FOR FURTHER INFORMATION CONTACT: You may obtain copies of the proposed information collection and supporting documents from, Susan Cowlishaw (2100 Pennsylvania Ave., NW., 3rd Floor, Washington, DC 20037), who may be reached on (202) 261-8957 or at Cowlishawsc@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The Application for Additional Visa Pages (DS-4085) Form has been developed to replace the Amendment and Validation Application (DS-19) Form. With the introduction of the “electronic passport,” it will no longer be possible to amend U.S. passports. The DS-4085 has been developed to serve one of the functions of Form DS-19. Applicants will use the DS-4085 Form to add additional visa pages to their valid U.S. passports. The electronic passport will contain a chip that stores information from the data page of the passport. The information on the data page and that contained on the chip must match. The addition of visa pages will not change information on the data page or alter the chip.

Methodology:

Passport Services collects information from U.S. citizens and non-citizen nationals when they complete and submit the Application for Additional Visa Pages Form. Passport applicants can either download the form from the Internet or obtain one from an Acceptance Facility/Passport Agency. The form must be completed and then signed. The form is then submitted along with the original passport.

Dated: June 17, 2005.
Ann Barrett,
Acting, Deputy Assistant Secretary for Passport Services, Bureau of Consular Affairs, Department of State.

[FR Doc. 05-13109 Filed 7-1-05; 8:45 am]

BILLING CODE 4710-06-P